DEPARTMENT OF INTERIOR

National Park Service

60-Day Notice of Intention to Request Clearance of Collection of Information; Opportunity for Public Comment

AGENCY: National Park Service, Interior.

ACTION: Notice and request for comments.

SUMMARY: Under the provisions of the Paperwork Reduction Act of 1995 and 5 CFR part 1320, Reporting and Record Keeping Requirements, the National Park Service (NPS) invites public comments on an extension of a currently approved collection of information Office of Management and Budget (OMB) #1024-0021. An agency may not conduct or sponsor, and a person is not required to respond to, a collection of information unless it displays a currently valid OMB control number.

DATES: Public comments on this Information Collection Request (ICR) will be accepted on or before June 18, 2010.

ADDRESSES: Send comments directly to: Ms. Robbin Owen, Chief, National Park Service, National Capital Region, National Mall and Memorial Parks, Division of Park Programs, 1100 Ohio Drive, SW., Room 128, Washington, DC 20242; or via fax at 202-401-2430; or via e-mail at Robbin_Owen@nps.gov. All responses to the notice will be summarized and included in the request for the OMB approval. All comments will become a matter of public record.

FOR FURTHER INFORMATION CONTACT: To Request a Draft of Proposed Collection of Information Contact: Ms. Robbin Owen, Chief, NPS, National Capital Region, National Mall and Memorial Parks, Division of Park Programs, 1100 Ohio Drive, SW., Room 128, Washington, DC 20242; or via phone at 202- 619-7225; or via fax at 202-401-2430; or via e-mail at Robbin_Owen@nps.gov. You are entitled to a copy of the entire ICR package free of charge once the package is submitted to OMB for review. You can access this ICR at http://www.reginfo.gov/public/.

SUPPLEMENTARY INFORMATION: OMB Control Number: 1024-0021.

Title: National Park Service, National Capital Region Application for a Permit to Conduct a Demonstration or Special Event in Park Areas and a Waiver of Numerical Limitations on Demonstrations for White House Sidewalk and/or Lafayette Park.

Form(s): None.

Expiration Date: 11/30/2010.

Type of Request: Extension of a currently approved collection of information.

Abstract: The NPS requests comments on an application form that allows the Park Programs Division of National Mall and Memorial Parks to process requests from individual and organizations to hold public gatherings on NPS property. These public gatherings consist of special events and demonstrations that the NPS is charged with regulating to insure protection of cultural and natural resources within NPS property. The NPS will use the information you submit to determine whether or not to make modifications to the application form. Once the NPS makes any modifications that it may decide to adopt, the NPS plans to submit a proposed collection of information package to OMB with a request that OMB approve the package and reinstate the OMB clearance number. The information collection responds to the statutory requirements that the NPS preserve park resources and regulate the use of units of the National Park System. The information to be collected identifies: (1) Those individuals and/or organizations that wish to conduct a public gathering on NPS property in the National Capital Region, (2) the logistics of a proposed demonstration or special event that aid the NPS in regulation activities to insure that they are consistent with the NPS mission, (3) potential civil disobedience and traffic control issues for the assignment of United States Park Police personnel, (4) circumstances which may warrant to be assigned to the event for the purpose of covering potential cost to repair damage caused by the event. You may obtain copies of the application from the source listed below (see the “send comments to” section) http://www.nps.gov/nama/planyourvisit/permits.htm.

Description of respondents: Respondents are those individuals or organizations that wish to conduct a special event or demonstration on NPS properties with the National Capital Region that lie within the geographical limits set forth in 36 CFR 7.96(a).

Obligation to Respond: Required to Obtain a Benefit.

Frequency of Response: On occasion.

Estimated average number of responses: 2,051 per year.

Estimated average time burden per respondent: .5 hours.

Estimated total annual reporting burden: 1,026 hours.

Estimated annual non hour cost burden: $102,550.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: April 12, 2010.
Cartina A. Miller,
Information Collection Clearance Officer, National Park Service.

[FR Doc. 2010-8983 Filed 4-16-10; 8:45 am]

BILLING CODE 4312-52-P